DEPARTMENT OF THE INTERIOR

National Park Service

Notice; Continuation of Visitor Services

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Concid No. | Concessioner's name | Park
CC-BISC006-89 | Florida National Parks & Monuments Assoc., Inc | Biscayne National Park.
CC-BISO006-96 | The View/Bear Camp (Bear Creek Campgrounds & Equestrian Area) | Big South Fork NRRA.
CC-BLRI001-93 | Southern Highland Handicraft Guild | Blue Ridge Parkway.
CC-BLRI002-83 | Northwest Trading Post, Inc. | Blue Ridge Parkway.
CC-BUIS001-98 | Southern Seas, Inc. | Buck Island Reef NM.
CC-BUIS006-98 | Teroro, Inc. | Buck Island Reef NM.
CC-BUIS015-98 | Milemark, Inc. | Buck Island Reef NM.
CC-CAHA001-98 | Avon-Thornton Limited Partnership | Cape Hatteras National Seashore.
CC-CAHA002-98 | Cape Hatteras Fishing Pier, Inc. | Cape Hatteras National Seashore.
CC-CAHA003-98 | Hatteras Island Motel Limited Partnership | Cape Hatteras National Seashore.
CC-CAHA004-98 | Oregon Inlet Fishing Center, Inc. | Cape Hatteras National Seashore.
CC-CALO003-98 | Morris Marina, Kabin Kamps & Ferry Service, Inc | Cape Lookout NS.
CC-EVER002-89 | Everglades National Park Boat Tours, Inc. | Everglades National Park.
CC-EVER001-80 | Xanterra Parks and Resorts | Everglades National Park.
CC-FOSU001-86 | Fort Sumter Tours, Inc. | Fort Sumter NM.
CC-GRSM002-83 | Leconte Lodge, Inc. | Great Smoky Mountains NP.
CC-GRSM007-94 | Smokemont Riding Stables of North Carolina, Inc | Great Smoky Mountains NP.
CC-VIIS001-71 | Caneel Bay, Inc. | Virgin Islands NP.

EFFECTIVE DATE: January 2, 2005.

FOR FURTHER INFORMATION CONTACT: Jo A. Pendry, Concession Program Manager, National Park Service, Washington, DC 20240, Telephone 202/513-7156.

Dated: December 17, 2004.
Alfred J. Poole, III,
Acting Associate Director, Administration, Business Practices and Workforce Development.

[FR Doc. 05-3334 Filed 2-18-05; 8:45 am]

BILLING CODE 4312-53-M